DEPARTMENT OF COMMERCE

National Oceanic and Atmospheric Administration

[RTID 0648-XX053]

Magnuson-Stevens Act Provisions; General Provisions for Domestic Fisheries; Application for Exempted Fishing Permit

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application submitted by the Northeast Fisheries Science Center in support of the 2020 Study Fleet Program contains all of the required information and warrants further consideration. This Exempted Fishing Permit would exempt participating vessels from minimum fish sizes and possession limits for species of interest, for sampling purposes only. Regulations under the Magnuson-Stevens Fishery Conservation and Management Act require publication of this notice to provide interested parties the opportunity to comment on Exempted Fishing Permit applications.

DATES: Comments must be received on or before April 22, 2020.

ADDRESSES: You may submit written comments by either of the following methods:

• Email: nmfs.gar.efp@noaa.gov. Include in the subject line “NEFSC STUDY FLEET EFP.”

• Mail: Michael Pentony, Regional Administrator, NMFS, Greater Atlantic Regional Fisheries Office, 55 Great Republic Drive, Gloucester, MA 01930. Mark the outside of the envelope “NEFSC STUDY FLEET EFP.”

FOR FURTHER INFORMATION CONTACT: Maria Fenton, Fishery Management Specialist, 978-281-9196.

SUPPLEMENTARY INFORMATION: The Northeast Fisheries Science Center (Center) submitted a complete application for an Exempted Fishing Permit (EFP) in support of the 2020 Study Fleet Program. This EFP would exempt 19 commercial fishing vessels from minimum fish sizes and possession limits for species of interest, as well as allow temporary retention of species prior to discarding.

The Center established the Study Fleet Program in 2002 to more fully characterize commercial fishing operations and provide sampling opportunities to augment NMFS's data collection programs. As part of the program, the Center contracts commercial fishing vessels to collect biological data and fish specimens for the Center to use in research relevant to stock assessments and fish biology. The Center's Study Fleet Program trains participating captains and crew to conduct at-sea sampling consistent with Center sampling protocols for survey and observer programs. During EFP trips, crew would sort, weigh, and measure fish prior to discarding. During sampling, some discarded fish would remain on deck slightly longer than they would under normal sorting procedures. Exemptions from minimum fish sizes and possession restrictions would allow vessels to temporarily retain catch for at-sea sampling.

Table 1 lists the regulations from which participating vessels would be exempt for at-sea sampling or when retaining and landing fish for research purposes. The exemptions listed in Table 1 are necessary for contracted vessels to acquire the biological samples needed to meet Center research objectives.

Table 1—List of Vessel Exemptions for Retaining and Landing Fish
| 2020 Study fleet program EFP
Number of Vessels | 19.
Exempted regulations in 50 CFR part 648 | Minimum fish sizes
| § 648.83 Northeast multispecies minimum fish sizes for redfish, yellowtail flounder, and winter flounder.
| Possession restrictions
| § 648.86(a) Haddock.
| § 648.86(g) Yellowtail flounder.
| § 648.94 Monkfish.

When directed by the Center, participating vessels would also be authorized to retain and land specific amounts of fish exceeding possession limits and/or below minimum fish sizes, for research purposes only. The captain or crew would deliver these fish to Center staff upon landing. In these limited circumstances, the Study Fleet Program would give participating vessels a formal biological sampling request prior to landing. This would ensure that the landed fish do not exceed any collection needs of the Study Fleet, as detailed in Table 2.

Table 2—Study Fleet Program's Biological Sample Collection Needs
Species | Stock area * | Gear types # | Collection frequency | Individual fish per collection period | Maximum weight allowed per trip | Maximum allowance
Acadian redfish | GOM | OTF | Monthly (Mar-July) | 50 per month | 150 lb (331 kg) | 750 lb (1,653 kg).
Haddock | GOM, GB | OTF, DRS | Monthly (Dec-Mar) | 80 per week (40 from each stock area) | 300 lb (661 kg) | 4,800 lb (10,582 kg).
Winter flounder | GOM, GB, SNE | OTF, DRS | Monthly (Jan-Apr) | 120 per week (40 from each stock area) | 160 lb (353 kg) | 3,840 lb (8,466 kg).
Yellowtail flounder | GOM, GB, SNE | OTF, DRS | Monthly (Jan-Apr) | 120 per week (40 from each stock area) | 90 lb (198 kg) | 2,160 lb (4,762 kg).
Monkfish | SNE | OTF | Twice | 10 per trip | 120 lb (295 kg) | 240 lb (529 kg).
Butterfish | SNE | OTM | Twice | 20 per trip | 10 lb (22 kg) | 20 lb (44 kg).
Atlantic mackerel | SNE | OTM | Twice | 20 per trip | 10 lb (22 kg) | 20 lb (44 kg).
Shortfin squid | Any Area | OTM, OTF | Monthly (Dec-Mar) | 30 per month | 15 lb (33 kg) | 60 lb (132 kg).
* Stock area abbreviations: Gulf of Maine (GOM), Georges Bank (GB), Southern New England (SNE)
# Gear abbreviations: Otter trawl (OTF), bottom longline (LLB), sink gillnet (GNS), sea scallop dredge (DRS), fish pot (PTF), hand lines, auto jig (HND), purse seine (PUR), otter trawl midwater (OTM), pair trawl midwater (PTM).

All catch would be attributed to the appropriate commercial fishing quota. For a vessel fishing on a groundfish sector trip, all catch of groundfish stocks allocated to sectors would be deducted from the vessel's sector's annual catch entitlement (ACE). Once the ACE for a stock has been reached in a sector, vessels would no longer be allowed to fish in that stock area unless the sector acquired additional ACE for the stock in question. For common pool vessels, all groundfish catch would be counted toward the appropriate trimester total allowable catch (TAC). Common pool vessels would be exempt from possession and trip limits on EFP trips when directed for sampling by the Center, but would still be subject to trimester TAC closures.

If approved, the Center may request minor modifications and extensions to the EFP throughout the year. EFP modifications and extensions may be granted without further notice if they are deemed essential to facilitate completion of the proposed research and have minimal impact that does not change the scope of the initially approved EFP request. Any fishing activity conducted outside the scope of the exempted fishing activity would be prohibited.

Authority: 16 U.S.C. 1801 et seq.

Dated: April 1, 2020.
Hélène M.N. Scalliet,
Acting Director, Office of Sustainable Fisheries,National Marine Fisheries Service.

[FR Doc. 2020-07218 Filed 4-6-20; 8:45 am]

BILLING CODE 3510-22-P